DEPARTMENT OF TRANSPORTATION

Office of the Secretary

Notice of Applications for Certificates of Public Convenience and Necessity and Foreign Air Carrier Permits Filed Under Subpart B (formerly Subpart Q) During the Week Ending November 26, 2004

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-1999-5846.

Date Filed: November 23, 2004.

Due Date for Answers, Conforming Applications, or Motion to Modify Scope: December 14, 2004.

Description: Application of United Air Lines, Inc., requesting renewal and amendment of its experimental certificate of public convenience and necessity for route 566 (U.S.-Mexico).

Docket Number: OST-1999-6663.

Date Filed: November 23, 2004.

Due Date for Answers, Conforming Applications, or Motion to Modify Scope: December 14, 2004.

Description: Application of United Parcel Service Co. requesting renewal of its certificate authorizing UPS to engage in scheduled foreign air transportation of property and mail between Austin, Houston, Louisville and San Antonio and Monterrey, Guadalajara and Mexico City, Mexico.

Docket Number: OST-1999-6172.

Date Filed: November 24, 2004.

Due Date for Answers, Conforming Applications, or Motion to Modify Scope: December 15, 2004.

Description: Application of American Airlines, Inc., requesting a renewal and amendment of its certificate for Route 560 so as to include the following additional U.S.-Mexico route segments for which American currently holds separate certificate authority on Route 794.

Docket Number: OST-2001-9027.

Date Filed: November 24, 2004.

Due Date for Answers, Conforming Applications, or Motion to Modify Scope: December 15, 2004.

Description: Application of American Airlines, Inc., requesting renewal of its certificate for Route 794 authorizing scheduled foreign air transportation of persons, property, and mail between New York (JFK)-Cancun and St. Louis-Cancun.

Maria Gulczewski,
Supervisory Dockets Officer, Alternate Federal Register Liaison.

[FR Doc. 04-27230 Filed 12-10-04; 8:45 am]

BILLING CODE 4910-62-P